INTERNATIONAL TRADE COMMISSION

[Investigation No. 337-TA-651]

In the Matter of Certain Automotive Parts; Notice of Commission Decision Not To Review Two Initial Determinations That Taken Together Terminate the Investigation in Its Entirety; Termination of the Investigation

AGENCY: U.S. International Trade Commission.

ACTION: Notice.

SUMMARY: Notice is hereby given that the U.S. International Trade Commission has determined not to review the administrative law judge's (“ALJ”) initial determinations (“IDs”) (Order Nos. 30 and 31) in the above-captioned investigation, granting joint motions to terminate the investigation based on a settlement agreement and a consent order, respectively. The Commission has terminated this investigation in its entirety.

FOR FURTHER INFORMATION CONTACT: Jean H. Jackson, Esq., Office of the General Counsel, U.S. International Trade Commission, 500 E Street, SW., Washington, DC 20436, telephone (202) 205-3014. Copies of the ALJ's IDs and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On June 5, 2008, the Commission instituted this investigation, based on a complaint filed by Ford Global Technologies, LLC of Dearborn, Michigan (“Ford”). The complaint alleges violations of section 337 in the importation into the United States, the sale for importation, and the sale within the United States after importation of certain automotive parts by reason of infringement of U.S. Design Patent Nos D498,444; D501,162; D510,551; D508,223; D500,717; D539,448; D500,969; or D500,970. The respondents are Keystone Automotive Industries of Pomona, California; LKQ Corporation of Chicago, Illinois; U.S. Autoparts Networks, Inc. (“Autoparts”) of Carson, California; Jui Li Enterprise Co. of Kaohsiung Hsien, Taiwan; YCC Parts Manufacturing Co., Ltd. of Tao-yuan Hsien, Taiwan; TYC Brother Industrial Co., Ltd. of Tainan, Taiwan; Taiwan Kai Yih Industrial Co., Ltd. of Tainan City, Taiwan; and TYG Products L.P. of McKinney, Texas.

On April 3, 2009, Ford and U.S. Autoparts filed a joint motion under Commission rule 210.21(c)(3) to terminate the investigation as to Autoparts based on a consent order. On the same day, Ford and the remaining respondents filed a joint motion to terminate the investigation based on a settlement agreement. On April 16, 2009, the ALJ issued the subject orders, which granted both motions. No petitions for review of either ID were filed. The Commission has determined not to review the IDs.

The authority for the Commission's determination is contained in section 337 of the Tariff Act of 1930, as amended (19 U.S.C. 1337), and in section 210.42 of the Commission's Rules of Practice and Procedure (19 CFR 210.42).

Issued: May 8, 2009.
By order of the Commission.
Marilyn R. Abbott,
Secretary to the Commission.

[FR Doc. E9-11366 Filed 5-14-09; 8:45 am]

BILLING CODE 7020-02-P